DEPARTMENT OF EDUCATION

[CFDA No: 84.031]

Office of Postsecondary Education; Strengthening Institutions, American Indian Tribally Controlled Colleges and Universities, and Alaska Native and Native Hawaiian-Serving Institutions Programs; Notice Inviting Applications for New Awards for Fiscal Year (FY) 2001

Purpose of Programs: The Strengthening Institutions, American Indian Tribally Controlled Colleges and Universities, and Alaska Native and Native Hawaiian-Serving Institutions Programs are all authorized under Title III, Part A of the Higher Education Act of 1965, as amended (HEA). These programs will be referred to collectively in this notice as the “Title III Part A programs.” Each provides grants to eligible institutions of higher education to enable them to improve their academic quality, institutional management, and fiscal stability, and increase their self-sufficiency. The grants thereby support the elements of the National Education Goals that are relevant to these institutions' unique missions.

Notes: 1. A grantee under the Developing Hispanic-Serving Institutions (HSI) Program authorized under Title V of the HEA may not simultaneously receive a grant under any part of the Title III Part A programs. Further, an HSI Program grantee may not give up that grant in order to apply for a grant under any Title III Part A program. Therefore, a current HSI Program grantee may not apply for a grant under any Title III Part A program under this notice.

2. An institution that does not fall within the limitation described in NOTE 1 may apply for a fiscal year 2001 grant under any Title III Part A program for which it qualifies as well as under the HSI Program. However, we may award to such an applicant only one grant under any of those programs. Accordingly, an institution applying for a grant under more than one program must indicate that fact in each application; further, the institution must indicate which grant it prefers to receive in a case where reviewers score the applications within the funding range under more than one program.

Applications Available: January 31, 2001.

Deadline for Transmittal of Applications: March 23, 2001 for development and planning grants under each of the Title III Part A programs.

Deadline for Intergovernmental Review: May 23, 2001 for planning and development grants under each of the Title III Part A programs.

Available Funds: We estimate that approximately $13,000,000 will be available for new development grants under the Strengthening Institutions Program and approximately $9,000,000 for new development grants under the American Indian Tribally Controlled Colleges and Universities Program, of which $5,000,000 may be used for construction and renovation of classrooms, libraries, laboratories or other instructional facilities. Institutions that are currently receiving grants under the program, as part of their budget request for fiscal year 2001 funds, may request funds for construction and renovations though the Secretary will give priority to institutions that do not currently have a grant. We estimate that up to $1,000,000 may be available for new projects under the Alaska Native and Native Hawaiian-Serving Institutions Program.

Estimated Range of Awards: $330,000-$365,000 per year for 5-year development grants under the Strengthening Institutions Program; $30,000-$35,000 for 1-year planning grants under the Title III Part A Programs; $800,000 to $1,200,000 for 1-year construction and renovation grants and $347,000-$395,000 per year for 5-year development grants under the American Indian Tribally Controlled Colleges and Universities Program; and $347,000-$395,000 per year for 5-year development grants under the Alaska Native and Native Hawaiian-Serving Institutions Program.

Estimated Average Size of Awards: $350,000 per year for 5-year development grants under the Strengthening Institutions Program; $32,500 for 1-year planning grants under the Title III Part A Programs; $1,000,000 per grant for 1-year construction and renovation grants and $371,000 per year for 5-year development grants under the American Indian Tribally Controlled Colleges and Universities Program; and $371,000 per year for 5-year development grants under the Alaska Native and Native Hawaiian-Serving Institutions Program.

Estimated Number of Awards: 14 planning grants under the Title III Part A programs; 35 development grants under the Strengthening Institutions Program; 5 construction and renovation grants and 10 development grants under the American Indian Tribally Controlled Colleges and Universities Program; and 2 development grants under the Alaska Native and Native Hawaiian-Serving Institutions Program.

Project Period: 60 months for development grants and 12 months for planning grants.

Note: The Department is not bound by any estimates in this notice. Applicants should periodically check the Title III Part A web site for further information on these programs. The address is: http://www.ed.gov/offices/OPE/HEP/idues/title3a.html

Special Funding Considerations: In tie-breaking situations described in 34 CFR 607.23 of the Strengthening Institutions Program regulations, we award one additional point to an applicant institution that has an endowment fund for which the 1997-1998 market value per full-time equivalent (FTE) student was less than the comparable average per FTE student at similar type institutions. We also award one additional point to an applicant institution that had 1997-1998 expenditures for library materials per FTE student that were less than the comparable average per FTE student at similar type institutions.

For the purpose of these funding considerations, an applicant must demonstrate that the market value of its endowment fund per FTE student, and library expenditures per FTE student, were less than the national averages for the year 1997-1998.

The Department has changed the way it collects information for determining the value of endowment funds and total expenditures for library materials. As a result of that change, we do not have base year data beyond 1996-1997. In order to award grants in a timely manner, however, we will calculate the averages using data submitted by applicants.

If a tie remains, after applying the additional point or points, we determine that an institution will receive a grant according to a combined ranking of endowment values per FTE student and library expenditures per FTE student. The institutions with the lowest combined library expenditures per FTE student and endowment values per FTE student are ranked higher in numerical order.

Applicable Regulations: (a) The Department of Education General Administrative Regulations (EDGAR) in 34 CFR Parts 74, 75, 77, 79, 82, 85, 86, 97, 98, and 99; (b) the regulations for this program in 34 CFR Part 607. Amendments to 34 CFR Part 607 relating to the American Indian Tribally Controlled Colleges and Universities and Alaska Native and Native-Hawaiian-Serving Institutions Programs were published in the Federal Register of December 15, 1999, 64 FR 70146, 70153-70155.

For Applications or Information Contact: Darlene B. Collins, U.S. Department of Education, 1990 K Street, NW, 6th Floor, Washington, DC 20006-8513. Telephone (202) 502-7777. e-mail: darlene_collins@ed.gov

Individuals who use a telecommunications device for the deaf (TDD) may call the Federal Information Relay Service (FIRS) at 1-800-877-8339.

Individuals with disabilities may obtain this document in an alternative format (e.g., Braille, large print, audio tape, or computer diskette) on request to the contact person listed under For Applications or Further Information Contact.

Individuals with disabilities may obtain a copy of the application package in an alternative format, also, by contacting that person. However, the Department is not able to reproduce in an alternative format the standard forms included in the application package.

Electronic Submission of Grant Applications

Application Procedures

Note: Some of the procedures in these instructions for transmitting application differ from those in the Education Department General Administrative Regulations (EDGAR) (34 CFR 75.102). Under the Administrative Procedures Act (5 U.S.C.553) the Department generally offers interested parties the opportunity to comment on proposed regulations. However, these amendments make procedural changes only and do not establish new substantive policy. Therefore, under 5 U.S.C. 553(b)(A), the Secretary has determined that proposed rulemaking is not required.

Pilot Project for Electronic Submission of Applications

We are continuing our pilot project under which applicants for planning grants under the Title III Part A programs can submit their applications electronically. The CFDA numbers for these programs are: 84.031A, N, T, and W. This year, we are extending our pilot project to include development grant applications from the American Indian Tribally Controlled Colleges and Universities, and the Alaska Native and Native Hawaiian-Serving Institutions Programs. Therefore, planning grant applicants under any of the Title III Part A programs and development grant applicants under the American Indian Tribally Controlled Colleges and Universities, and the Alaska Native and the Native Hawaiian-Serving Institutions Programs may submit their applications to us in either electronic or paper format.

Institutions submitting a development grant application under the Strengthening Institutions program, however, must submit a paper application.

The pilot project involves the use of the Electronic Grant Application System (e-APPLICATION formerly e-GAPS) portion of the Grant Administration and Payment System (GAPS). We request your participation in this pilot project. We shall continue to evaluate its success and solicit suggestions for improvement.

If you participate in this e-APPLICATION pilot, please note the following:

• Your participation is strictly voluntary.

• You will not receive any additional point value or penalty because you submit a grant application in electronic or paper format.

• You can submit all grant documents electronically including the Application for Federal Assistance (ED 424), Budget Information—Non-Construction Programs (ED 524), and all necessary assurances and certifications.

• Fax a signed copy of the Application for Federal Assistance (ED 424) after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center within three working days of submitting your electronic application. We will indicate a fax number in e-APPLICATION at the time of your submission.

• We may request at a later date that you give us original signatures on all other forms.

You may access the electronic grant application for the Title III Part A programs at: http://e-grants.ed.gov

We have included additional information about the e-APPLICATION pilot project (see Parity Guidelines between Paper and Electronic Applications) in the application package.

Electronic Access to this Document: You may view this document, as well as all other Department of Education documents published in the Federal Register, in text or Adobe Portable Document Format (PDF) on the Internet at either of the following sites:

http://ocf.ed.gov/fedreg.htm

http://www.ed.gov/news.html

To use PDF, you must have the Adobe Acrobat Reader, which is available free at either of the previous sites. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority 20 U.S.C. 1057.

Dated: January 17, 2001.
A. Lee Fritschler,
Assistant Secretary, Office of Postsecondary Education.

[FR Doc. 01-1874 Filed 1-22-01; 8:45 am]

BILLING CODE 4000-01-P